DEPARTMENT OF THE TREASURY

Internal Revenue Service

26 CFR Part 1

[REG-111629-23]

RIN 1545-BM80

Guidance Regarding Elections Relating to Foreign Currency Gains and Losses

Correction

In Proposed Rule Document 2024-18281, appearing on pages 67336-67341, in the issue of Tuesday, August 20, 2024, make the following corrections:

1. On page 67336, in the second column, in the DATES section, in the third line, “October 18, 2024” should read “October 21, 2024”.

2. On the same page, in the same column, in the same section, in the fourth line “August 20, 2024” should read “August 19, 2024”.

[FR Doc. C1-2024-18281 Filed 8-28-24; 2:00 pm]

BILLING CODE 0099-10-D